DEPARTMENT OF DEFENSE

Office of the Secretary

[Transmittal No. 21-54]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-54 with attached Policy Justification and Sensitivity of Technology.

Dated: March 29, 2023.
Aaron T. Siegel,
Alternate OSD Federal Register Liaison Officer, Department of Defense.

BILLING CODE 5001-06-P

BILLING CODE 5001-06-C

Transmittal No. 21-54

Notice of Proposed Issuance of Letter of Offer Pursuant to Section 36(b)(1) of the Arms Export Control Act, as amended

(i) Prospective Purchaser: Republic of Korea

Total Estimated Value:

Major Defense Equipment * | $251 million
Other | $ 7 million
TOTAL | $258 million

(iii) Description and Quantity or Quantities of Articles or Services under Consideration for Purchase:

Major Defense Equipment (MDE):

Three thousand nine hundred fifty-three (3,953) Joint Direct Attack Munition (JDAM) Guidance Kits, KMU-556 for GBU-31

One thousand nine hundred eighty-one (1,981) JDAM Guidance Kits, KMU-557 for GBU-31, GBU-56

One thousand one hundred seventy-nine (1,179) JDAM Guidance Kits, KMU-572 for GBU-38

One thousand seven hundred fifty-five (1,755) FMU-139 Fuze Systems

Non-MDE:

Also included are DSU-42/B Detectors, Laser Illuminated Target for GBU-56; weapon spare parts, components and accessories; weapons training aids, devices, and spare parts; U.S. Government and contractor engineering, technical assistance, and logistical support services; and other related elements of logistical and program support.

(iv) Military Department: Air Force (KS-D-YAW, KS-D-YAX, KS-D-YAY)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 25, 2021

* As defined in Section 47(6) of the Arms Export Control Act.

POLICY JUSTIFICATION

Korea—Precision Guided Munitions

The Republic of Korea has requested to buy three thousand nine hundred fifty-three (3,953) Joint Direct Attack Munition (JDAM) Guidance Kits, KMU-556 for GBU-31; one thousand nine hundred eighty-one (1,981) JDAM Guidance Kits, KMU-557 for GBU-31, GBU-56; one thousand one hundred seventy-nine (1,179) JDAM Guidance Kits, KMU-572 for GBU-38; and one thousand seven hundred fifty-five (1,755) FMU-139 Fuze Systems. Also included are DSU-42/B Detectors, Laser Illuminated Target for GBU-56; weapon spare parts, components and accessories; weapons training aids, devices, and spare parts; U.S. Government and contractor engineering, technical assistance, and logistical support services; and other related elements of logistical and program support. The estimated total cost is $258 million.

This proposed sale will support the foreign policy goals and national security objectives of the United States by helping to improve the security of a Major Non-NATO ally that continues to be an important force for political stability, peace, and economic progress in the Indo-Pacific region.

The proposed sale will improve the Republic of Korea's capability to meet current and future threats by increasing available stores of munitions on the Korean Peninsula in support of Alliance Operations Plans (OPLANs), as well as to fulfill conditions outlined by the Condition-Based Operational Control (OPCON) Transition Plan. The Republic of Korea will have no difficulty absorbing these articles into its armed forces.

The proposed sale of this equipment and support will not alter the basic military balance in the region.

The principal contractor will be Boeing Corporation, St Louis, Missouri. There are no known offset agreements proposed in connection with this potential sale.

Implementation of this proposed sale will not require the assignment of any additional U.S. Government or contractor representatives to the Republic of Korea.

There will be no adverse impact on U.S. defense readiness as a result of this proposed sale.

Transmittal No. 21-54

Notice of Proposed Issuance of Letter of Offer Pursuant to Section 36(b)(1) of the Arms Export Control Act

Annex

Item No. vii

(vii) Sensitivity of Technology:

1. The Joint Direct Attack Munition (JDAM) is a guidance kit that converts existing unguided free-fall bombs into an accurate, adverse weather “smart” munition. The Guidance Set consists of a Tail Kit, which contains the Inertial Navigation System (INS) and a Global Positioning System (GPS), a set of Aerosurfaces and an umbilical cover, which allows the JDAM to improve the accuracy of unguided, General Purpose bombs. The JDAM weapon can be delivered from modest standoff ranges at high or low altitudes against a variety of land and surface targets during the day or night. The JDAM is capable of receiving target coordinates via preplanned mission data from the delivery aircraft, by onboard aircraft sensors (i.e., FLIR, Radar, etc.) during captive carry, or from a third-party source via manual or automated aircrew cockpit entry. The Guidance Set, when combined with a warhead and appropriate fuze, forms a JDAM Guided Bomb Unit (GBU).

(a) The KMU-572 is the tail kit for a GBU-38 500LB JDAM.

(b) The KMU-556 is the tail kit for a GBU-31 2,000LB Mk-84 (General Purpose bomb body) JDAM.

(c) The KMU-557 is the tail kit for a GBU-31/-56 2,000LB BLU-109 (General Purpose bomb body) JDAM.

2. The Laser JDAM (GBU-56) is a 2,000LB JDAM that incorporates all the capabilities of the JDAM guidance tail kit and adds a DSU-42/B precision laser guidance set. The DSU-42/B sensor gives the weapon system an optional semi-active laser seeker. The addition of the DSU-42/B laser sensor combined with additional cabling and mounting hardware turns a GBU-31 JDAM into a GBU-56 LJDAM. The DSU-42/B consists of a laser spot tracker, a cable connecting the DSU-42/B to the basic JDAM guidance set, a cable cover, cable cover tie-down straps, modified tail kit door and wiring harness, and associated modified JDAM software that incorporates navigation and guidance flight software to support both LJDAM and standard JDAM missions. The DSU-42/B adds the flexibility to strike targets of opportunity, including mobile and moving targets, to an already accurate adverse weather GPS/INS guided JDAM.

3. The Joint Programmable Fuze (JPF) FMU-139D/B is a multi-delay, multi-arm and proximity sensor compatible with general purpose blast, frag and hardened-target penetrator weapons. The JPF settings are cockpit selectable in flight when used numerous precision-guided weapons. It can interface with the following weapons: GBU-31, GBU-38, and GBU-56.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that the Republic of Korea can provide substantially the same degree of protection for the sensitive technology being released as the U.S. Government. This sale is necessary in furtherance of the U.S. foreign policy and national security objectives outlined in the Policy Justification.

7. All defense articles and services listed in this transmittal have been authorized for release and export to the Republic of Korea.

[FR Doc. 2023-06838 Filed 3-31-23; 8:45 am]

BILLING CODE 5001-06-P